DEPARTMENT OF VETERANS AFFAIRS

[OMB Control No. 2900-0101]

Agency Information Collection Activity: Eligibility Verification Reports (EVRs)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before April 26, 2024.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0101” in any correspondence. During the comment period, comments may be viewed online through FDMS.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0101” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Information is requested by this form under the authority of 38 U.S.C. 1506, regulatory authority is found in 38 CFR 3.277.

Title: Eligibility Verification Reports (EVRs) VA Forms: 21P-0510, 21P-0510 (Spanish), 21P-0512S-1, 21P-0512S-1 (Spanish), VA Form 21P-0512V-1, 21P-0513-1, 21P-0513-1 (Spanish), 21P-0514-1, 21P-0514-1(Spanish), 21P-0516-1, 21P-0516-1 (Spanish), 21P-0517-1, 21P-0517 (Spanish), 21P-0518-1, 21P-0518-1 (Spanish), 21P-0519C-1, 21P-0519C-1 (Spanish), 21P-0519S-1, 21P-0519S-1 (Spanish).

OMB Control Number: 2900-0101.

Type of Review: Extension of a currently/previously approved collection.

Abstract: A claimant's eligibility for Pension is determined, in part, by countable family income and net worth. Any individual who has applied for, or receives, VA Pension or Parents' Dependency and Indemnity Compensation (DIC) must promptly notify the VA in writing of any change in entitlement factors. VBA uses Eligibility Verification Reports (EVRs) to receive income and net worth information from Pension and Parents DIC claimants and beneficiaries to evaluate eligibility for benefits. The reported information can result in increased or decreased benefits. Typically, the claimants and beneficiaries utilize the form to notify the VA of changes in income and net worth, though the forms could be used to reopen a claim for benefits in limited circumstances. This is a request for an extension of the EVR collections with no substantive changes.

Affected Public: Individuals and households.

Estimated Annual Burden: 34,500 hours.

Estimated Average Burden per Respondent: 30 minutes.

Frequency of Response: One time.

Estimated Number of Respondents: 69,000.

By direction of the Secretary.
Maribel Aponte,
VA PRA Clearance Officer, Office of Enterprise and Integration/Data Governance Analytics, Department of Veterans Affairs.

[FR Doc. 2024-03771 Filed 2-23-24; 8:45 am]

BILLING CODE 8320-01-P